DEPARTMENT OF DEFENSE

Department of the Navy

Department of the Navy Science and Technology Board; Notice of Federal Advisory Committee Meeting

AGENCY: Department of the Navy (DoN), Department of Defense (DoD).

ACTION: Notice of Federal Advisory Committee meeting.

SUMMARY: The DoD is publishing this notice to announce that the following Federal Advisory Committee meeting of the Department of the Navy Science and Technology Board (DoN S&T Board) will take place.

DATES: A partially closed meeting will be held on Thursday September 12, 2024 from 8 a.m. to 4 p.m. and an open session to the public from 8:15 a.m. to 9:15 a.m. (Eastern Daylight Time (EDT)).

ADDRESSES: The Closed session will be held at Naval Surface Warfare Center Carderock, Bethesda, Maryland. The open session may be accessed by videoconference. Information for accessing the videoconference will be provided after registering. (Pre-meeting registration is required. See guidance in SUPPLEMENTARY INFORMATION “Meeting Accessibility.”)

FOR FURTHER INFORMATION CONTACT: Ms. Barbara Biehn, Alternate Designated Federal Officer (ADFO), Office of the Assistant Secretary of the Navy (Research, Development & Acquisition), Navy Pentagon, Washington, DC 20350-1000, 703-614-1635, don-stb@us.navy.mil.

SUPPLEMENTARY INFORMATION: This meeting is being held under the provisions of chapter 10 of title 5 U.S.C. (commonly known as the Federal Advisory Committee Act (FACA), the Government in the Sunshine Act of 1976 (5 U.S.C. 552b, as amended), title 41 of the Code of Federal Regulations (CFR), §§ 102-3.140 and 102-3.150, and covered by 5 U.S.C. 552b(c)(l). Due to circumstances beyond the control of the Designated Federal Officer, the Department of the Navy Science and Technology Board was unable to provide public notification required by 41 CFR 102-3.150(a) concerning its September 12, 2024, meeting. Accordingly, the Advisory Committee Management Officer for the Department of Defense, pursuant to 41 CFR 102-3.150(b), waives the 15-calendar day notification requirement.

Purpose of the Meeting: The purpose of the meeting will be to review recommendations for the topics of Innovation, Ship Maintenance, Additive Manufacturing, and Electronic Warfare.

Agenda: On September 12, 2024, the chair of the board will open the Open public session of the meeting, where an Executive Summary will be discussed, and then the Chair will proceed to open the Closed session to proceed with classified discussions.

Availability of Materials for the Meeting: A copy of the agenda or any updates to the agenda for the meeting on September 12, 2024, as well as supporting documents, can be found on the website: https://www.secnav.navy.mil/donsandtboard/Pages/default.aspx.

Meeting Accessibility: Pursuant to section 552b(c)(l) of 5 U.S.C., this meeting will be partially closed to the public. The public open session will be held by videoconference. All members of the public who wish to attend must register by contacting the DoN S&T Board at don-stb@us.navy.mil. Once registered, the web address and/or audio number will be provided. For any questions or concerns, please contact don-stb@us.navy.mil no later than September 5, 2024.

Written Statements: Pursuant to 41 CFR 102-3.105 and 102-3.140, and section 1009(a)(3) of title 5 U.S.C., written statements to the committee may be submitted at any time or in response to a stated planned meeting agenda by email to don-stb@us.navy.mil with the subject line, “Comments for DON STB Meeting.”

Dated: September 9, 2024.
A.J. Gioiello,
Lieutenant Commander, Judge Advocate General's Corps, U.S. Navy, Federal Register Liaison Officer.

[FR Doc. 2024-20680 Filed 9-9-24; 4:15 pm]

BILLING CODE 3810-FF-P